DEPARTMENT OF THE INTERIOR

National Park Service

[NPS-NCR-HAFE-25439; PS.SHAFE0001.01.1]

Minor Boundary Revision at Harpers Ferry National Historical Park

AGENCY: National Park Service, Interior.

ACTION: Notification of boundary revision.

SUMMARY: The boundary of Harpers Ferry National Historical Park is modified to include approximately 12.97 acres of land with all improvements thereon, situate in Harpers Ferry District, Jefferson County, West Virginia lying on the south side of U.S. Route 340, on the east side of the relocation of Route 27 and on the west side of Old Route 27, more particularly bounded and described in a plat of survey made by Appalachian Survey, Inc., dated June 6, 1981, and recorded with a deed dated August 28, 1981 in the Office of the Clerk of the County Commission of Jefferson County, West Virginia, in Deed Book 490, at Page 384. The property will be donated to the United States by the American Battlefield Trust formerly known as the Civil War Preservation Trust.

DATES: The applicable date of this boundary revision is October 10, 2018.

ADDRESSES: The map depicting this boundary revision is available for inspection at the following locations: National Park Service, National Trails System Program Center, 216 B Viking Way, Martinsburg, West Virginia 25401, telephone (304) 263-4943.

FOR FURTHER INFORMATION CONTACT: National Park Service, Donald King, Realty Officer, National Trails System Program Center, 216 B Viking Way, Martinsburg, West Virginia 25401, telephone (304) 263-4943.

SUPPLEMENTARY INFORMATION: Notice is hereby given that, pursuant to 54 U.S.C. 100506(c), the boundary of Harpers Ferry National Historical Park is modified to include 12.97 acres of land with all improvements. The boundary revision is depicted on the Harpers Ferry National Historical Park Proposed Minor Boundary Revision map numbered 385/133094 and dated June 2016.

Specifically, 54 U.S.C. 100506(c) provides that, after consultation with the governing body of the county, city, town, or other jurisdiction or jurisdictions having taxing authority over the land or interest to be acquired as to the impact of the proposed action, and subsequent notification of the Committee on Natural Resources of the House of Representatives and the Committee on Energy and Natural Resources of the Senate, the Secretary of the Interior is authorized to make this boundary revision upon publication of notice in the Federal Register. The relevant governing bodies have been consulted and the Committees have been notified of this boundary revision. This boundary revision and subsequent donation will ensure preservation and protection of the Park's historic and natural resources.

Once this property is included within the park boundary and acquired by the United States, it is the intention of the National Park Service to manage the property for public purposes.

Dated: August 6, 2018.
Peter May,
Acting Regional Director, National Capital Region.

[FR Doc. 2018-21896 Filed 10-9-18; 8:45 am]

BILLING CODE P